NATIONAL AERONAUTICS AND SPACE ADMINISTRATION

[Notice: 13-123]

NASA Advisory Council; Science Committee; Planetary Protection Subcommittee; Meeting

AGENCY: National Aeronautics and Space Administration.

ACTION: Notice of meeting.

SUMMARY: In accordance with the Federal Advisory Committee Act, Public Law 92-463, as amended, the National Aeronautics and Space Administration (NASA) announces a meeting of the Planetary Protection Subcommittee of the NASA Advisory Council (NAC). This Subcommittee reports to the Science Committee of the NAC. The meeting will be held for the purpose of soliciting, from the scientific community and other persons, scientific and technical information relevant to program planning.

DATES: Tuesday, November 12, 2013, 9:00 a.m. to 5:00 p.m., and Wednesday, November 13, 2013, 8:30 a.m. to 4:00 p.m., Local Time.

ADDRESSES: This meeting will take place at the NASA Goddard Space Flight Center, 8800 Greenbelt Road, Greenbelt, MD 20771. The November 12 meeting will be held in Building 28, Room E210. The November 13 meeting will be held in Building 21, Rooms 183A and B.

FOR FURTHER INFORMATION CONTACT: Ms. Ann Delo, Science Mission Directorate, NASA Headquarters, Washington, DC 20546, (202) 358-0750, fax (202) 358-2779, or ann.b.delo@nasa.gov.

SUPPLEMENTARY INFORMATION: The meeting will be open to the public up to the capacity of the room. The meeting will also be available telephonically and by WebEx. Any interested person may call the USA toll free conference call number 866-625-7921, pass code 9515434, to participate in this meeting by telephone. The WebEx link for the November 12 meeting is https://nasa.webex.com/, meeting number 990 787 342, password PPS111220131! The WebEx link for the November 13 meeting is https://nasa.webex.com/, meeting number 999 279 440, password PPS111320132! The agenda for the two-day meeting includes the following topics:

—Planetary Protection at NASA; Issues and Status

—Planetary Protection for Cached Mars Samples

—Planetary Science Update

—Mars Science Laboratory Lessons Learned Status

It is imperative that the meeting be held on these dates to accommodate the scheduling priorities of the key participants. All attendees will be requested to sign a register and to comply with NASA security requirements. Visitors must show a valid State or Federal issued picture ID, green card, or passport, before receiving an access badge to enter into the NASA Goddard Space Flight Center and must state that they are attending the NASA Advisory Council's Planetary Protection Subcommittee meeting in Buildings 28 and 21. The November 12 meeting will be held in Building 28, Room E210. The November 13 meeting will be held in Building 21, Rooms 183A and B. All U.S. citizens and Permanent Residents (green card holders) desiring to attend must provide their full name, company affiliation (if applicable), and citizenship to Ann Delo via email ann.b.delo@nasa.gov or by telephone at (202) 358-0750 no later than the close of business November 5, 2013. Foreign Nationals must provide following information: full name, gender, date/place of birth, citizenship, home address, visa information (number, type, expiration date), passport information (number, country of issue, expiration date), employer/affiliation information (name of institution, title/position, address, country of employer, telephone, email address), and an electronically scanned copy of their passport and visa to Ann Delo via email at ann.b.delo@nasa.gov no later than close of business November 1, 2013. If the above information is not received by the noted dates, U.S. citizens should expect a minimum delay of two (2) hours, and Foreign Nationals may not be granted entrance. All visitors to this meeting will report to the Goddard Space Flight Center (GSFC) Main Gate where they will be processed through security prior to entering GSFC. For security questions on the day of the meeting, please call Mary Holland at (301) 286-5412 or email mary.holland@nasa.gov.

Patricia D. Rausch,
Advisory Committee Management Officer, National Aeronautics and Space Administration.

[FR Doc. 2013-25327 Filed 10-25-13; 8:45 am]

BILLING CODE 7510-13-P